DEPARTMENT OF COMMERCE

International Trade Administration

[A-570-846]

Brake Rotors From the People's Republic of China: Initiation of Eleventh New Shipper Antidumping Duty Review

AGENCY: Import Administration, International Trade Administration, Department of Commerce.

SUMMARY: The Department of Commerce received one request on December 15, 2003, to conduct a new shipper review of the antidumping duty order on brake rotors from the People's Republic of China (“PRC”). In accordance with 19 CFR 351.214(d), we are initiating a new shipper review for the company that requested such a review: Longkou Jinzheng Machinery Co., Ltd., a producer and exporter of brake rotors from the PRC.

EFFECTIVE DATE: May 26, 2004.

FOR FURTHER INFORMATION CONTACT: Brian Smith, Import Administration, International Trade Administration, U.S. Department of Commerce, 14th Street and Constitution Avenue, NW., Washington, DC 20230; telephone (202) 482-1766.

SUPPLEMENTARY INFORMATION:

Background

The Department received a timely request in December 2003 from Longkou Jinzheng Machinery Co., Ltd. (“Longkou Jinzheng”) in accordance with 19 CFR 351.214(c), for a new shipper review of the antidumping duty order on brake rotors from the PRC, which has an April anniversary month.

Longkou Jinzheng identified itself as the producer of the brake rotors it exports. As required by 19 CFR 351.214(b)(2)(i) and (iii)(A), Longkou Jinzheng has certified that it did not export brake rotors to the United States during the period of investigation (“POI”), and that it has never been affiliated with any exporter or producer which did export brake rotors during the POI (see December 15, 2003, submission). Longkou Jinzheng has further certified that its export activities are not controlled by the central government of the PRC, satisfying the requirements of 19 CFR 351.214(b)(2)(iii)(B). Pursuant to 19 CFR 351.214(b)(2)(iv)(A), Longkou Jinzheng provided the date of the first sale to an unaffiliated customer in the United States. Longkou Jinzheng submitted documentation establishing the date on which it first shipped the subject merchandise to the United States and the volume and date of entry of that shipment.

In accordance with section 751(a)(2)(B) of the Tariff Act of 1930 (“the Act”), as amended, and 19 CFR 351.214(b), and based on our analysis of the information and documentation provided with the new shipper review request, as well as our analysis of proprietary import data from U.S. Customs and Border Protection (“CBP”), we find that Longkou Jinzheng has met the requirements for the Department to initiate a new shipper review (for more details, see New Shipper Initiation Checklist for Longkou Jinzheng). Therefore, we are initiating a new shipper review for Longkou Jinzheng.

In cases involving non-market economies, it is the Department's normal practice to require that a company seeking to establish eligibility for an antidumping duty rate separate from the country-wide rate provide de jure and de facto evidence of an absence of government control over the company's export activities (see Natural Bristle Paintbrushes and Brush Heads from the People's Republic of China, 68 FR 57875 (October 7, 2003)). Accordingly, we will issue a questionnaire to Longkou Jinzheng (including a complete separate rates section), allowing approximately 37 days for response. If the response from Longkou Jinzheng provides sufficient indication that it is not subject to either de jure or de facto government control with respect to its exports of brake rotors, the review will proceed. If the respondent does not demonstrate its eligibility for a separate rate, then it will be deemed to be affiliated with other companies that exported during the POI and that it did not establish entitlement to a separate rate, and the review of that respondent will be rescinded.

Initiation of Review

In accordance with section 751(a)(2)(B)(ii) of the Act and 19 CFR 351.214(d)(1), we are initiating a new shipper review of the antidumping duty order on brake rotors from the PRC. Normally, we would issue the preliminary results of this review not later than 180 days after the date on which the review is initiated. However, on May 7, 2004, Longkou Jinzheng agreed to waive the time limits in order that the Department, pursuant to 19 CFR 351.214(j)(3), may conduct this review concurrent with the seventh administrative review of this order for the period April 1, 2003, through March 31, 2004, which is being conducted pursuant to section 751(a)(1) of the Act. Therefore, we intend to issue the final results of this review not later than 245 days after the last day of the anniversary month.

Antidumping duty new shipper review | Period to be reviewed
PRC: Brake Rotors, A-570-846: Longkou Jinzheng Machinery Co., Ltd | 04/01/03-03/31/04

We will instruct CBP to allow, at the option of the importer, the posting, until the completion of the review, of a bond or security in lieu of a cash deposit for each entry of the subject merchandise from Longkou Jinzheng. This action is in accordance with section 751(a)(2)(B)(iii) of the Act, as amended, and 19 CFR 351.214(e). Because Longkou Jinzheng has certified that it both produces and exports the subject merchandise, the sale of which was the basis for its new shipper review request, we will apply the bonding privilege only to entries of subject merchandise for which it is both the producer and exporter.

Interested parties that need access to proprietary information in this new shipper review should submit applications for disclosure under administrative protective order in accordance with 19 CFR 351.305 and 351.306.

This initiation and notice are in accordance with section 751(a)(2)(B) of the Act (19 U.S.C. 1675(a)) and 19 CFR 351.214(d).

Dated: May 20, 2004.
Jeffrey May,
Deputy Assistant Secretary for Import Administration.

[FR Doc. 04-11916 Filed 5-25-04; 8:45 am]

BILLING CODE 3510-DS-P